DEPARTMENT OF ENERGY

Federal Energy Regulatory Commission

[Docket No. RP06-284-000]

Horizon Pipeline Company, L.L.C.; Notice of Refund Report

April 4, 2006.

Take notice that on March 31, 2006, Horizon Pipeline Company, L.L.C. (Horizon) filed its Refund Report regarding the penalty revenues, for the period January 1, 2005 through December 31, 2005, that it refunded to its customers pursuant to section 10.7 of the General Terms and Conditions (GT&C) of its FERC Gas Tariff, Original Volume No. 1.

Horizon states that copies of the filing are being mailed to its customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. On or before the comment date, it is not necessary to serve motions to intervene or protests on persons other than the Applicant.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time April 11, 2006.

Magalie R. Salas,
Secretary.

[FR Doc. E6-5298 Filed 4-10-06; 8:45 am]

BILLING CODE 6717-01-P